DEPARTMENT OF ENERGY

Federal Energy Regulatory Commission

[Project No. 2524-018]

Grand River Dam Authority; Notice of Telephone Meeting To Discuss the Salina Pumped Storage Project Water Quality Study Results

a. Date and Time of Meeting: Wednesday, January 16, 2013, 2 p.m. Central Standard Time, (3 p.m. Eastern Standard Time).

b. Place: Teleconference hosted by Grand River Dam Authority. (An RSVP is required. See paragraph f below.)

c. FERC Contact: Stephen Bowler at (202) 505-6861 or stephen.bowler@ferc.gov; or Jeanne Edwards at (202) 502-6181 or jeanne.edwards@ferc.gov.

d. Purpose of Meeting: As a follow-up to its study report meeting of October 11, 2012, the Grand River Dam Authority (GRDA) is holding a technical meeting to discuss the results of the Water Quality Study as they stand at the conclusion of fieldwork.

e. Proposed Agenda:

(1) GRDA: Introduction

(2) Oklahoma Water Resources Control Board (OWRB): Water quality study results at the conclusion of fieldwork

(3) GRDA, OWRB, and other participants: Discussion

f. All local, state, and federal agencies, Indian tribes, and other interested parties are invited to participate by phone. Please email Jacklyn Jaggars by close of business on Monday, January 14, 2013, at jjaggars@grda.com to RSVP and to receive specific instructions on how to participate.

Dated: January 2, 2013.
Kimberly D. Bose,
Secretary.

[FR Doc. 2013-00120 Filed 1-7-13; 8:45 am]

BILLING CODE 6717-01-P